DEPARTMENT OF HOMELAND SECURITY

Federal Emergency Management Agency

[Docket ID FEMA 2010-0037]

Hazardous Fire Risk Reduction, East Bay Hills, CA

AGENCY: Federal Emergency Management Agency, DHS.

ACTION: Notice of availability of draft environmental impact statement and notice of public meetings.

SUMMARY: The Federal Emergency Management Agency (FEMA) has prepared an environmental impact statement (EIS) evaluating the environmental impacts of funding a combination of hazardous fuels reduction projects within the East Bay Hills area in Alameda and Contra Costa Counties, California. The projects may be funded through Federal assistance grants under the Hazard Mitigation Grant Program (HMGP) and the Pre-Disaster Mitigation (PDM). The National Park Service, the U.S. Forest Service, the National Oceanographic and Atmospheric Administration, Fisheries Service, the U.S. Fish and Wildlife Service, the California Emergency Management Agency, the University of California, Berkeley (UCB), the City of Oakland (Oakland), and the East Bay Regional Parks District (EBRPD) have participated in the preparation of the EIS as cooperating agencies. Public meetings will be held during the public comment period on the draft EIS. The draft EIS is available on the project Web site at http://ebheis.cdmims.com.

DATES: Public meetings will be held May 14 and May 18, 2013. The public comment period on the Draft EIS starts with a concurrent publication through EPA of a notice in the Federal Register and will continue until June 17, 2013. FEMA will consider all oral comments recorded at the public meetings and all electronic and written comments on the draft EIS received or postmarked by that date. Agencies, interested parties, and the public are invited to submit comments on this draft EIS at any time during the public comment period.

ADDRESSES: FEMA will hold public meetings to allow the public an opportunity to learn more about the project and to submit comments on the draft EIS at the following locations:

1. May 14, 2013, at 2 p.m., Richard C. Trudeau Training Center, Main Room, 11500 Skyline Boulevard, Oakland, CA 94619.

2. May 14, 2013, at 6 p.m., Richard C. Trudeau Training Center, Main Room, 11500 Skyline Boulevard, Oakland, CA 94619.

3. May 18, 2013, at 10 a.m., Claremont Middle School, Gymnasium, 5750 College Avenue, Oakland, CA 94618.

You may submit comments, identified by Docket ID FEMA-2010-0037, by one of the following methods:

Federal eRulemaking Portal: http://www.regulations.gov. Search for Docket ID FEMA-2010-0037 and follow the instructions for submitting comments.

Mail/Hand Delivery/Courier: Office of Chief Counsel, Federal Regulatory Affairs Division, Emergency Management Agency, 500 C Street SW., Washington, DC 20472-3100.

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

Docket: For access to the docket to read background documents or comments received, go to the Federal eRulemaking Portal at http://www.regulations.gov, click on “Advanced Search,” then enter “FEMA-2010-0037” in the “By Docket ID” box, then select “FEMA” under “By Agency,” and then click “Search.” These documents also may be inspected at FEMA, Office of Chief Counsel, 500 C Street SW., Washington, DC 20472-3100.

FOR FURTHER INFORMATION CONTACT: Alessandro Amaglio, Regional Environmental Officer, Region IX, FEMA, 1111 Broadway, Suite 1200, Oakland, CA 94607-4052 and phone number at (510) 627-7027.

SUPPLEMENTARY INFORMATION: FEMA has received four hazard mitigation applications for hazardous fuels reduction projects in the East Bay Hills of Alameda and Contra Costa counties, California and at the Miller/Knox Regional Shoreline in Contra Costa County in California. The proposed action is to fund these four projects under section 404 of the Robert T. Stafford Disaster Relief and Emergency Assistance Act (Stafford Act), Public Law 93-288, as amended, establishing the HMGP and Section 203 of the Stafford Act, establishing the PDM grant program. The California Emergency Management Agency is the official applicant, and UCB, Oakland, and EBRPD are subapplicants.

The four grant applications propose vegetation management work in 60 project areas located on land owned by UCB and Oakland and within 11 parks owned and maintained by EBRPD. Another 45 project areas are referred to as the connected action areas and they are adjacent or nearby areas where EBRPD plans to do similar vegetation management work that would not be funded by the grant applications under consideration. Together, the proposed and connected actions would provide more effective protection over a larger area. The connected actions are being implemented as funding becomes available.

In addition to the vegetation management work proposed for grant funding, there is additional work proposed within the project areas that may be funded by other agencies. Some of this additional work includes activities that are not eligible for FEMA funding, such as the pile burning and area burning proposed by EBRPD.

The Strawberry Canyon Vegetation Management Project on UCB land involves the removal of eucalyptus and other exotic non-native trees in a 56-acre area, chipping the downed trees and scattering the chips in portions of the project area, and the application of herbicides, as needed, to eradicate eucalyptus tree sprouts from the area. The Claremont Canyon Vegetation Management Project on UCB land involves the removal of eucalyptus, Monterey pine, and acacia trees in a 43-acre area, chipping the downed trees and scattering the chips in portions of the project area, and the application of herbicides, as needed, to eradicate eucalyptus tree sprouts from the area. The City of Oakland's project involves thinning and eradication techniques within 359 acres on Oakland, UCB, and EBRPD lands. The EBRPD project involves the treatment of 540 acres to reduce fuel load through brush removal (mechanical and hand), chemical treatment, limbing and mowing, thinning, and grazing techniques as appropriate to reduce the risk of fire hazard. These projects would affect approximately 998 acres of the Wildland-Urban Interface in the East Bay Hills running from Lake Chabot to Wildcat Canyon and Sobrante Ridge. The connected actions would involve similar vegetation management activities on an additional 1,061 acres of EBRPD lands.

The draft EIS evaluates the potential effects of two alternatives including:

(1) No action, which involves denying the grant applications; and

(2) The proposed and connected actions of vegetation management activities on 105 project areas.

Public Involvement and Comments

Public meetings will begin with an open house during which staff will be available to answer questions about the project followed by a short overview presentation and an opportunity to present oral comments or submit written comments. Public meeting locations and times as described under the DATES and ADDRESSES sections of this notice will also be announced through the local media, the project Web site (http://ebheis.cdmims.com), and an interested party mailing list. All meeting locations will be handicapped-accessible and accessible by public transit. Anyone needing special accommodations should contact FEMA Region IX to make arrangements.

Speakers will be asked to provide brief comments to allow adequate time to hear all comments. Should any speaker desire to provide further information for the record that cannot be presented within the designated time, such additional information may be submitted at the meeting, electronically, or by letter at the address provided on this notice by June 17, 2013. Speakers are encouraged to provide a written version of their oral comments at the meetings to ensure that their comments are completely and accurately recorded.

FEMA requests that reviewers provide specific information and comments on factual errors, missing information, or additional considerations that should be corrected or included in the final EIS. Comments on the draft EIS should be specific and should address the adequacy of the statement and the merits of the alternatives discussed (40 CFR 1503.3).

Individual respondents may request confidentiality. The names, street addresses, and city or town information of those providing comments will be part of the administrative record, and will be subject to public disclosure unless confidentiality is requested. Such a request must be stated prominently at the beginning of the comment. We will honor requests to the extent allowed by law. All submissions from organizations or businesses, and from individuals identifying themselves as representatives or officials of organizations or businesses, will be available for public inspection in their entirety, consistent with applicable law.

After gathering public comments, FEMA will identify and provide responses in the final EIS according to 40 CFR 1503.4. A Record of Decision addressing the federal action will be issued by FEMA no sooner than 30 days following distribution of the final EIS, which is expected to occur about August, 2013.

Authority: 42 U.S.C. 4331; 40 CFR Part 1500; 44 CFR Part 10.

W. Craig Fugate,
Administrator, Federal Emergency Management Agency.

[FR Doc. 2013-11707 Filed 5-15-13; 8:45 am]

BILLING CODE 9119-19-P